DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before January 25, 2018.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2017-024-C.

Petitioner: ICG Illinois, LLC, 5945 Lester Road, Williamsville, Illinois 62693.

Mine: Viper Mine, MSHA I.D. No. 11-02664, located in Sangamon County, Illinois.

Regulation Affected: 30 CFR 75.500(d) (Permissible electric equipment).

Modification Request: The petitioner requests a modification of the existing standard to permit the use of nonpermissible electronic testing or diagnostic equipment inby the last open crosscut. The petitioner states that:

(1) The use of nonpermissible electronic testing and diagnostic equipment will be limited to: Laptop computers; oscilloscopes; vibration analysis machines; cable fault detectors; point temperature probes; infrared temperature devices; insulation testers (meggers); voltage, current, resistance, and power measurement devices; ultrasonic thickness gauges; electronic component testers; and electronic tachometers. Other testing and diagnostic equipment may be used if approved in advance by the MSHA District Manager.

(2) All nonpermissible electronic testing and diagnostic equipment used in or inby the last open crosscut will be examined by a qualified person, as defined in 30 CFR 75.153, prior to use to ensure the equipment is being maintained in a safe operating condition. The examinations results will be recorded weekly in the examination book and will be made available to MSHA and the miners at the mine.

(3) A qualified person, as defined in 30 CFR 75.151, will continuously monitor for methane immediately before and during the use of nonpermissible electronic testing and diagnostic equipment in or inby the last open crosscut.

(4) Nonpermissible electronic testing and diagnostic equipment will not be used if methane is detected in concentrations at or above one percent. When one percent or more methane concentration is detected while the nonpermissible electronic equipment is being used, the equipment will be deenergized immediately and the nonpermissible electronic equipment will be withdrawn outby the last open crosscut.

(5) All hand-held methane detectors will be MSHA-approved and maintained in permissible and proper operating condition as defined in 30 CFR 75.320.

(6) Except for time necessary to troubleshoot under actual mining conditions, coal production in the Mechanized Mining Unit will cease. However, coal may remain in or on the equipment to test and diagnose the equipment under “load.”

(7) All electronic testing and diagnostic equipment will be used in accordance with the manufacturer's recommendations.

(8) Qualified personnel who use electronic testing and diagnostic equipment will be properly trained to recognize the hazards and limitations associated with use of such equipment.

The petitioner asserts that the proposed alternative method will at all times guarantee no less than the same measure of protection afforded by the existing standard.

Docket Number: M-2017-025-C.

Petitioner: ICG Illinois, LLC, 5945 Lester Road, Williamsville, Illinois 62693.

Mine: Viper Mine, MSHA I.D. No. 11-02664, located in Sangamon County, Illinois.

Regulation Affected: 30 CFR 75.507-1(a) (Electric equipment other than power-connection points; outby the last open crosscut; return air; permissibility requirements).

Modification Request: The petitioner requests a modification of the existing standard to permit the use of nonpermissible electronic testing or diagnostic equipment in return air outby the last open crosscut. The petitioner states that:

(1) The use of nonpermissible electronic testing and diagnostic equipment will be limited to: Laptop computers; oscilloscopes; vibration analysis machines; cable fault detectors; point temperature probes; infrared temperature devices; insulation testers (meggers); voltage, current, resistance, and power measurement devices; ultrasonic thickness gauges; electronic component testers; and electronic tachometers. Other testing and diagnostic equipment may be used if approved in advance by the MSHA District Manager.

(2) All nonpermissible electronic testing and diagnostic equipment used in return air outby the last open crosscut will be examined by a qualified person, as defined in 30 CFR 75.153, prior to use to ensure the equipment is being maintained in a safe operating condition. The examinations results will be recorded weekly in the examination book and will be made available to MSHA and the miners at the mine.

(3) A qualified person, as defined in 30 CFR 75.151, will continuously monitor for methane immediately before and during the use of nonpermissible electronic testing and diagnostic equipment in return air outby the last open crosscut.

(4) Nonpermissible electronic testing and diagnostic equipment will not be used if methane is detected in concentrations at or above one percent. When one percent or more methane concentration is detected while the nonpermissible electronic equipment is being used, the equipment will be deenergized immediately and the nonpermissible electronic equipment will be withdrawn from the return air outby the last open crosscut.

(5) All hand-held methane detectors will be MSHA-approved and maintained in permissible and proper operating condition as defined in 30 CFR 75.320.

(6) Except for time necessary to troubleshoot under actual mining conditions, coal production in the Mechanized Mining Unit will cease. However, coal may remain in or on the equipment to test and diagnose the equipment under “load.”

(7) All electronic testing and diagnostic equipment will be used in accordance with the manufacturer's recommendations.

(8) Qualified personnel who use electronic testing and diagnostic equipment will be properly trained to recognize the hazards and limitations associated with use of such equipment.

The petitioner asserts that the proposed alternative method will at all times guarantee no less than the same measure of protection afforded by the existing standard.

Docket Number: M-2017-026-C.

Petitioner: Rosebud Mining Company, 301 Market Street, Kittanning, Pennsylvania 16201.

Mine: Cresson Mine, MSHA I.D. No. 36-09308, located in Cambria County, Pennsylvania.

Regulation Affected: 30 CFR 75.503 (Permissible electric face equipment; maintenance) and 18.35(a)(5)(i) (Portable (trailing) cables and cords).

Modification Request: The petitioner requests a modification of the existing standard to permit the use of 480-volt extended trailing cables on Mobile Bridge Conveyors, Dual Boom Roof Bolters, Truss Bolters, Single Boom Roof Bolters, and Shuttle Cars and 995-volt extended trailing cables on continuous mining machines. The petitioner states that:

(1) Table 9 in Appendix 1 specifies the maximum length of trailing cables as: 600 feet using No. 4 American Wire Gauge (AWG) cables, 700 feet using No. 2 AWG cable, 850 feet using No. 2/0 AWG cable, and 1,000 feet using No.4/0 AWG cable.

(2) Trailing cables that supply 995-volt 3-phase Alternating Current (AC) to continuous miners will not be smaller than No. 2/0 AWG shielded cable and will not exceed a length of:

a. 1,000 feet when using No. 2/0 AWG shielded cable; or

b. 1,250 feet when using No. 4/0 AWG shielded cable.

(3) Trailing cables that supply 480-volt 3-phase AC to mobile bridge conveyors will not be smaller than No. 2/0 AWG cable and will not exceed a length of:

a. 1,000 feet when using 2/0 AWG cable; or

b. 1,250 feet when using No. 4/0 AWG cable.

(4) Trailing cables that supply 480-volt 3-phase AC to the Fletcher Dual Boom Roof Bolter and Fletcher Tilt Head Truss Bolter will not exceed 1,200 feet in length when using No. 2 AWG cable.

(5) Trailing cables that supply 480-volt 3-phase AC to the Long Airdox Single Head Roof Bolter will not exceed 900 feet in length when using No. 4 AWG cable.

(6) Trailing cables that supply 480-volt 3-phase AC to shuttle cars will not exceed 900 feet in length when using No. 4 AWG cable.

(7) All circuit breakers used to protect No. 4 AWG trailing cable exceeding 600 feet in length will have instantaneous trip units calibrated and sealed to trip at 500 amperes with +/− 10 percent trip tolerance. The circuit breakers will have permanent, legible labels attached. The label will identify the circuit breaker as being suitable for protecting No. 4 AWG cables.

(8) Replacement circuit breakers and/or instantaneous trip units used to protect No. 4 AWG cables will be calibrated and sealed to trip at 500 amperes with +/−10 percent trip tolerance.

(9) All circuit breakers used to protect No. 2 AWG cables exceeding 700 feet in length will have instantaneous trip units calibrated and sealed to trip at 500 amperes with +/−10 percent trip tolerance. The circuit breakers will have permanent, legible labels. The label will identify the circuit breaker as being suitable for protecting No. 2 AWG cables.

(10) Replacement circuit breakers and/or instantaneous trip units used to protect No. 2 AWG cables will be calibrated and sealed to trip at 500 amperes with +/−10 percent trip tolerance.

(11) All circuit breakers used to protect No. 2/0 AWG cables or No. 4/0 AWG cables exceeding 850 feet in length will have instantaneous units calibrated and sealed to trip at 1,500 amperes with +/−10 percent trip tolerance.

(12) These circuit breakers will have permanent, legible labels. The label will identify the circuit breaker as being suitable for protecting No. 2/0 AWG or No. 4/0 AWG cables.

(13) Replacement circuit breakers and/or instantaneous trip units used to protect No. 2/0 AWG or No. 4 AWG cables will be calibrated and sealed to trip at 1,500 amperes with +/−10 percent trip tolerance.

(14) All components that provide short-circuit protection will have a sufficient interruption rating in accordance with the maximum calculated fault currents available.

(15) During production, persons designated by the operator will visually examine the trailing cables daily to ensure the cables are in safe operating condition and that the instantaneous settings of the specially calibrated breakers do not have seals removed or have been tampered with and they do not exceed the stipulated settings.

(16) Trailing cables not in safe operating condition will be removed from service immediately and repaired or replaced.

(17) Splices or repairs in the trailing cables will be made in a workmanlike manner, in accordance with the instruction of the manufacturer of the splice or repair materials. The splice or repair will comply with the requirements in 30 CFR 75.603 and 75.604.

(18) Permanent warning labels will be installed and maintained on the cover or covers of the power center identifying the location of each sealed short circuit protective device. These labels will warn miners not to change or alter these sealed short circuit settings.

(19) Excess cable will be stored behind the anchor(s) on equipment that use cable reels to prevent the cables from overheating.

(20) Petitioner will not implement this change until the petition for modification is approved and not until all miners who will be responsible for examination of the cables and associated electrical components have been trained on the contents and precautions included in the petition.

(21) Within 60 days after the proposed decision and order becomes final, the petitioner will submit proposed revisions for the approved 30 CFR part 48 training plan to the District Manager. These proposed revisions will specify task training for miners designated to examine the trailing cables for safe operating condition, and verify the settings of the circuit breakers that protect the trailing cables do not exceed the specified settings in Items 7, 8, 9, 10, 11, 12, and 13. The training will include the following elements:

a. The hazards of setting the circuit breakers too high to adequately protect the trailing cables.

b. How to verify that the circuit breakers protecting the trailing cables are properly set and maintained.

c. Mining methods and operating procedures that will protect the trailing cables against damage.

d. The proper procedure for visually examining trailing cables to ensure the cables are in safe operating condition by inspecting the entire cable for nicks and abrasions and observing the insulation and integrity of any splices or repairs.

The procedure as specified in 30 CFR 48.3 for approval of proposed revisions to already approved training plans will apply.

The petitioner asserts that the proposed alternative method will at all times guarantee no less than the same measure of protection afforded by the existing standard.

Sheila McConnell,
Director, Office of Standards, Regulations, and Variances.

[FR Doc. 2017-27666 Filed 12-22-17; 8:45 am]

BILLING CODE 4520-43-P